DEPARTMENT OF THE INTERIOR

National Park Service

60-Day Notice of Intention to Request Clearance of Information Collection—Opportunity for Public Comment

AGENCY: Department of the Interior, National Park Service, National Underground Railroad Network to Freedom Program.

ACTION: Notice and request for comments.

SUMMARY: Under the provisions of the Paperwork Reduction Act of 1995 (Public Law, 104-13, 44 U.S.C. 3507) and 5 CFR part 1320, Reporting and Recordkeeping Requirements, the National Park Service invites public comments on a proposed information collection. Comments are invited on: (1) The need for the information including whether the information has practical utility; (2) the accuracy of the reporting burden estimate; (3) ways to enhance the quality, utility, and clarity of the information to be collected on respondents, including use of automated collection techniques or other forms of information technology.

Public Law 105-203 authorizes the National Railroad Network to Freedom Program (NURNFP) to develop and administer the Network to Freedom, a nationwide collection of governmental and nongovernmental properties, facilities, and programs associated with the historic Underground Railroad movement. The NURNFP is developing an application process through which associated elements can be included in the Network to Freedom. The information collected will:

(a) Verify associations to the Underground Railroad,

(b) Measure minimum levels of standards for inclusion in the Network, and

(c) Identify general needs for technical assistance.

DATES: Public Comments on the proposed ICR will be accepted on or before August 7, 2000.

ADDRESSES: Send comments to Diane Miller, National Coordinator, National Underground Railroad Network to Freedom Program, National Park Service, Midwest Regional Office, 1709 Jackson Street, Omaha, Nebraska, 68102.

All responses to this notice will be summarized and included in the requests for Office and Management and Budget (OMB) approval. All comments will become a matter of public record. Copies of the proposed ICR can be obtained from Diane Miller, National Coordinator, National Underground Railroad Network to Freedom Program, National Park Service, Midwest Regional Office, 1709 Jackson Street, Omaha, Nebraska, 68102.

FOR FURTHER INFORMATION CONTACT: Diane Miller, 402-221-3749 or Aaron Mahr, 956-541-2785, ext. 3.

SUPPLEMENTARY INFORMATION: Title: Nomination Form to Underground Railroad Network to Freedom.

Bureau Form Number: To be requested.

OMB Number: To be requested.

Expiration date: To be requested.

Type of request: Request for new clearance.

Description of need: The National Underground Railroad Network to Freedom Program is identifying guidelines and criteria for associated elements to enter the Network to Freedom. The Nomination Form documents properties, programs, and facilities, and demonstrates that they meet the criteria established for inclusion. The documentation will be incorporated into a database that will be available to the general public for information purposes.

Automated data collection: Respondents must verify associations and characteristics through descriptive texts that are the result of historical research. Evaluations are based on subjective analysis of the information provided. At the present time there is no automated way to gather this information.

Description of respondents: The affected public are state, tribal, and local governments, federal agencies, businesses, non-profit organizations, and individuals, throughout the United States. Nominations to the Network to Freedom are voluntary.

Estimated average number of respondents: 100.

Estimated average number of responses: 100.

Estimated average burden hours per response: 10 hours.

Estimated frequency of response: Once per respondent.

Estimated annual reporting burden: 1000 hours.

Dated: May 30, 2000.
William W. Schenk,
Regional Director, Midwest Region.

[FR Doc. 00-14350 Filed 6-6-00; 8:45 am]

BILLING CODE 4310-70-M